DEPARTMENT OF HEALTH AND HUMAN SERVICES

Centers for Disease Control and Prevention

[60Day-12-12QU]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 and send comments to Kimberly S. Lane, CDC Reports Clearance Officer, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Impact Evaluation of CDC's Colorectal Cancer Control Program (CRCCP)—New—National Center for Chronic Disease Prevention and Health Promotion (NCCDPHP), Centers for Disease Control and Prevention (CDC).

Background and Brief Description

Colorectal cancer (CRC) is the second leading cause of cancer deaths in the U.S., however, screening can effectively reduce CRC incidence and mortality. CDC's Colorectal Cancer Control Program (CRCCP) was established to increase population-level screening rates to 80 percent. Currently, 25 states and four tribal organizations receive CDC funds. The CRCCP is the first cancer prevention and control program funded by CDC emphasizing both the direct provision of screening services and broader screening promotion. CRCCP grantees are required to establish evidence-based colorectal cancer screening delivery programs for persons 50-64 years of age, focusing on asymptomatic persons at average risk for CRC with low incomes and inadequate or no health insurance coverage for CRC screening. Approximately 33 percent of each grantee award may be used to fund the provision of screening and diagnostic tests. Additional program activities such as patient recruitment, patient navigation, provider education, quality assurance, and data management are also supported under this component of the program.

The CRCCP offers a unique and important opportunity to evaluate the efficacy of this new public health model. CDC plans to conduct an impact evaluation to determine whether CRCCP program activities increase state-level colorectal cancer screening rates and other proximal outcomes. The impact evaluation will use a quasi-experimental, control group design with pre- and post-tests involving a total of six states: Three CRCCP grantee states (Alabama, Nebraska, and Washington) represent the intervention programs and three non-CRCCP states (Tennessee, Oklahoma, and Wisconsin) represent the control states.

CDC plans to complete two cycles of information collection over a three-year period. The first information collection will be initiated in 2012 and the second information collection will be initiated in 2014. Three types of information will be collected at each time, including: (1) A general population survey administered by telephone with a state-based, representative, cross-sectional, random sample of adults aged 50-75 (population survey); (2) a mail-back, written, survey of a state-based, representative sample of primary care providers (provider survey); and (3) qualitative case studies of program implementation (case studies) based on interviews with Colorectal Control Program staff, program evaluators, and state and local partners in both grantee and non-grantee states.

The general population survey includes questions related to knowledge of and attitudes toward colorectal cancer, history of colorectal cancer screening and intentions for future screening, and barriers to screening. The estimated burden per response is 23 minutes. The provider survey of primary care physicians includes questions related to knowledge of colorectal cancer screening guidelines and screening quality, office systems that support screening, and patterns of referrals to screening. The estimated burden per response is 12 minutes. For the case studies, interview guides will be used to conduct personal interviews with program staff and stakeholder to gather detailed information about colorectal cancer screening provision and promotion efforts. The estimated burden for each interview is one hour, although some interviews may be longer. Evaluation staff will also collect information through document review and field observation.

The information to be collected will be used to assess the impact of the CRCCP in improving proximal outcomes (e.g., provider knowledge, population attitudes) and in increasing population-level CRC screening rates. Results of the evaluation will be used to improve program performance, plan future public health programs, and improve efficiencies. OMB approval is requested for three years. The total estimated annualized burden hours are 2,393. There are no costs to respondents other than their time.

Estimated Annualized Burden Hours
Type of respondent | Form name | Number of respondents | Number of responses per respondent | Average burden per response (in hr) | Total burden (in hr)
General Population | Screener for the Colorectal Cancer Population Survey | 9,600 | 1 | 5/60 | 800
General Population ages 50-75 | Colorectal Cancer Population Survey | 3,200 | 1 | 23/60 | 1,227
Eligible Primary Care Providers | Colorectal Cancer Screening Practices: Survey of Primary Care Providers | 1,600 | 1 | 12/60 | 320
CRCCP Grantee Program Staff | Interview Guide: Program Staff for Grantee Program | 10 | 1 | 1.5 | 15
CRCCP Grantee Evaluators | Interview Guide: Program Evaluator for Grantee Program | 2 | 1 | 1 | 2
Non-Grantee Program Staff | Interview Guide: Program Staff for Nongrantee Program | 10 | 1 | 1.5 | 15
Non-Grantee Evaluator | Interview Guide: Program Evaluator for Nongrantee Program | 2 | 1 | 1 | 2
CRCCP State and Local Sector Partners | Interview Guide: Grantee Partner for Grantee Program | 4 | 1 | 1 | 4
Non-grantee State and Local Partners | Interview Guide: Nongrantee Partner | 4 | 1 | 1 | 4
CRCCP Private Sector Partners | Interview Guide: Grantee Partner for Grantee Program | 4 | 1 | 1 | 4
Non-grantee Private Sector Partners | Interview Guide: Nongrantee Partner | 4 | 1 | 1 | 4
Total |  |  |  |  | 2,393

Dated: August 16, 2012.
Ron A. Otten,
Director, Office of Scientific Integrity (OSI), Office of the Associate Director for Science (OADS), Office of the Director, Centers for Disease Control and Prevention.

[FR Doc. 2012-20619 Filed 8-21-12; 8:45 am]

BILLING CODE 4163-18-P